ENVIRONMENTAL PROTECTION AGENCY

40 CFR Part 300

[EPA-HQ-OLEM-2023-0299; EPA-HQ-OLEM-2023-00304; EPA-HQ-OLEM-2023-0382; FRL-11238-02-OLEM]

Deletion From the National Priorities List

AGENCY: Environmental Protection Agency (EPA).

ACTION: Final rule.

SUMMARY: The Environmental Protection Agency (EPA) announces the deletion of one site and partially deletion of two sites from the Superfund National Priorities List (NPL). The NPL, created under the Comprehensive Environmental Response, Compensation, and Liability Act (CERCLA) of 1980, as amended, is an appendix of the National Oil and Hazardous Substances Pollution Contingency Plan (NCP). The EPA and the States, through their designated State agencies, have determined that all appropriate response actions under CERCLA have been completed. However, this deletion does not preclude future actions under Superfund.

DATES: The document is effective February 16, 2024.

ADDRESSES: Docket: EPA has established a docket for this action under the Docket Identification included in Table 1 in the SUPPLEMENTARY INFORMATION section of this document. All documents in the docket are listed on the https://www.regulations.gov website. The Final Close-Out Report (FCOR, for a full site deletion) or the Partial Deletion Justification (PDJ, for a partial site deletion) is the primary document which summarizes site information to support the deletion. It is typically written for a broad, non-technical audience and this document is included in the deletion docket for each of the sites in this rulemaking. Although listed in the index, some information is not publicly available, i.e., Confidential Business Information or other information whose disclosure is restricted by statute. Certain other material, such as copyrighted material, is not placed on the internet and will be publicly available only in hard copy form. Docket materials are available through https://www.regulations.gov or at the corresponding Regional Records Centers. Locations, addresses, and phone numbers of the Regional Records Center follows.

• Region 1 (CT, ME, MA, NH, RI, VT), U.S. EPA New England, SEMS Records and Information Center, 5 Post Office Square, Suite 100, Boston, MA 02109-3912; 617/918-1440.

• Region 2 (NJ, NY, PR, VI), U.S. EPA, 290 Broadway, New York, NY 10007-1866; 212/637-4308.

• Region 4 (AL, FL, GA, KY, MS, NC, SC, TN), U.S. EPA, 61 Forsyth Street SW, Mail code 9T25, Atlanta, GA 30303.

• EPA Headquarters Docket Center Reading Room (deletion dockets for all States), William Jefferson Clinton (WJC) West Building, Room 3334, 1301 Constitution Avenue NW, Washington, DC 20004, (202) 566-1744.

EPA staff listed below in the FOR FURTHER INFORMATION CONTACT section may assist the public in answering inquiries about deleted sites, accessing deletion support documentation, and determining whether there are additional physical deletion dockets available.

FOR FURTHER INFORMATION CONTACT:

• Robert Lim, U.S. EPA Region 1 (CT, ME, MA, NH, RI, VT), lim.robert@epa.gov, 617-918-1392.

• Mabel Garcia, U.S. EPA Region 2 (NJ, NY, PR, VI), garcia.mabel@epa.gov, 212-637-4356.

• Leigh Lattimore, U.S. EPA Region 4 (AL, FL, GA, KY, MS, NC, SC, TN), lattimore.leigh@epa.gov, 404-562-8768.

• Charles Sands, U.S. EPA Headquarters, sands.charles@epa.gov, 202-566-1142.

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466, (November 1, 1995). The sites to be deleted are listed in Table 1, including docket information containing reference documents with the rationale and data principally relied upon by the EPA to determine that the Superfund response is complete. The NCP permits activities to occur at a deleted site, or that media or parcel of a partially deleted site, including operation and maintenance of the remedy, monitoring, and five-year reviews. These activities for the site are entered in Table 1 in this SUPPLEMENTARY INFORMATION section, if applicable, under Footnote such that; 1 = site has continued operation and maintenance of the remedy, 2 = site receives continued monitoring, and 3 = site five-year reviews are conducted. As described in 40 CFR 300.425(e)(3) of the NCP, a site or portion of a site deleted from the NPL remains eligible for Fund-financed remedial action if future conditions warrant such actions.

Table 1
Site name | City/county, state | Type | Docket No. | Footnote
Portsmouth Naval Shipyard | Kittery, ME | Full | EPA-HQ-OLEM-2023-0382 | 1, 2, 3.
Universal Oil Products (Chemical Division) | East Rutherford, NJ | Partial | EPA-HQ-OLEM-2023-0304
Tyndall Air Force Base | Panama City, FL | Partial | EPA-HQ-OLEM-2023-0299 | 1, 3.

Information concerning the sites to be deleted and partially deleted from the NPL, and the proposed rule for the deletion and partial deletion of the sites, are included in Table 2.

Table 2
Site name | Date, proposed rule | FR citation | Full site deletion (full) or media/parcels/description for partial deletion
Portsmouth Naval Shipyard | 8/16/2023 | 88 FR 55611 | Full.
Universal Oil Products (Chemical Division) | 8/16/2023 | 88 FR 55611 | Partial, 17 acres of soil from OU1.
Tyndall Air Force Base | 8/16/2023 | 88 FR 55611 | Partial, OUs 10, 11 and parts of 15 and 25.

For the sites proposed for deletion, the closing date for comments in the proposed rule was September 15, 2023. The EPA received no public comments for any of the three sites in this final rule. The deletion criteria for the Site have been met, and detailed information is available on https://www.regulations.gov, and in the appropriate Regional Records Centers listed in the ADDRESSES.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Larry Douchand,
Office Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In Appendix B to part 300, amend Table 1 by:

a. Revising the entry for “NJ”, “Universal Oil Products (Chemical Division”, “East Rutherford”.

The revisions read as follows:

Appendix B to Part 300—National Priorities List

Table 1—General Superfund Section
State | Site name | City/county | Notes (a)
* * * * * * *
NJ | Universal Oil Products (Chemical Division) | East Rutherford | P.
* * * * * * *
* P = Sites with partial deletion(s).

Table 2—[Amended]

3. In Appendix B to part 300, amend Table 2 by:

a. Removing the entry for “ME”, “Portsmouth Naval Shipyard”, “Kittery”.

[FR Doc. 2024-03003 Filed 2-15-24; 8:45 am]

BILLING CODE 6560-50-P